DEPARTMENT OF TRANSPORTATION

Surface Transportation Board

[STB Finance Docket No. 34960]

The Chicago, Lake Shore and South Bend Railway Company—Acquisition and Operation Exemption—Norfolk Southern Railway Company

The Chicago, Lake Shore and South Bend Railway Company (CLS&SB), a noncarrier, has filed a verified notice of exemption under 49 CFR 1150.31 to purchase and operate lines currently owned by Norfolk Southern Railway Company. The lines consist of approximately 3.2 miles of railroad between milepost UV 0.0 and milepost UV 2.8 and between milepost ZO 9.48 and milepost ZO 9.9, including any ownership interest in the spur leading to the University of Notre Dame near the City of South Bend, IN (City).¹

¹ The 3.2 miles of line and spur at issue in this notice of exemption are also the subject of an adverse abandonment proceeding in Norfolk Southern Railway Company—Adverse Abandonment—St. Joseph County, IN, STB Docket No. AB-290 (Sub-No. 286) (STB served and published at 71 FR 12933 on Dec. 11, 2006). The City, Sisters of the Holy Cross, Inc., and Brothers of Holy Cross, Inc., the applicants in STB Docket No. AB-290 (Sub-No. 286), on November 22, 2006, filed a petition to revoke, and a request to stay the effective date of, the notice of exemption at issue here. The Board issued a housekeeping stay in a decision served on November 22, 2006, to give interested persons an opportunity to submit additional information. The revocation request will be handled in a subsequent Board decision.

CLS&SB certifies that its projected annual revenues as a result of the transaction will not exceed those that would quality it as a Class III rail carrier and will not exceed $5 million.

CLS&SB planned to consummate the transaction no sooner than 7 days after the filing date of this notice of exemption and commence operations once the necessary rehabilitation of the lines is complete.

If the notice contains false or misleading information, the exemption is void ab initio. Petitions to revoke the exemption under 49 U.S.C. 10502(d) may be filed at any time. The filing of a petition to revoke does not automatically stay the transaction.

An original and 10 copies of all pleadings, referring to STB Finance Docket No. 34960, must be filed with the Surface Transportation Board, 1925 K Street, NW., Washington, DC 20423-0001. In addition, one copy of each pleading must be served on John D. Heffner, 1920 N Street, NW., Suite 800, Washington, DC 20036.

Board decisions and notices are available on our Web site at http://www.stb.dot.gov.

Decided: December 14, 2006.
By the Board, David M. Konschnik, Director, Office of Proceedings.
Vernon A. Williams,
Secretary.

[FR Doc. E6-21759 Filed 12-19-06; 8:45 am]

BILLING CODE 4915-01-P